DEPARTMENT OF VETERANS AFFAIRS

[OMB Control No. 2900-0894]

Agency Information Collection Activity Under OMB Review: Program of Comprehensive Assistance for Family Caregivers (PCAFC) Decision Appeal Form

AGENCY: Veterans Health Administration, Department of Veterans Affairs.

ACTION: Notice.

SUMMARY: In compliance with the Paperwork Reduction Act (PRA) of 1995, this notice announces that the Veterans Health Administration (VHA), Department of Veterans Affairs, will submit the collection of information abstracted below to the Office of Management and Budget (OMB) for review and comment. The PRA submission describes the nature of the information collection and its expected cost and burden, and it includes the actual data collection instrument.

DATES: Comments and recommendations for the proposed information collection should be sent by August 25, 2025.

ADDRESSES: To submit comments and recommendations for the proposed information collection, please type the following link into your browser: www.reginfo.gov/public/do/PRAMain, select “Currently under Review—Open for Public Comments,” then search the list for the information collection by Title or “OMB Control No. 2900-0894.”

FOR FURTHER INFORMATION CONTACT: VA PRA information: Dorothy Glasgow, 202-461-1084, VAPRA@va.gov.

SUPPLEMENTARY INFORMATION:

Title: Program of Comprehensive Assistance for Family Caregivers (PCAFC) Decision Appeal Form (VA Form 10-306).

OMB Control Number: 2900-0894. https://www.reginfo.gov/public/do/PRASearch.

Type of Review: Revision of a currently approved collection.

Abstract: The Caregivers and Veterans Omnibus Health Services Act of 2010 (Pub. L. 111-163) enacted 38 U.S.C. 1720G, which directed the Department of Veterans Affairs (VA) to establish a Program of Comprehensive Assistance for Family Caregivers (PCAFC) and a Program of General Caregiver Support Services (PGCSS). VA's regulations implementing PCAFC and PGCSS are in 38 CFR part 71. Both programs are managed by VA's Caregiver Support Program (CSP) Office. On June 06, 2018, the President signed into law the John S. McCain III, Daniel K. Akaka, and Samuel R. Johnson VA Maintaining Internal Systems and Strengthening Integrated Outside Networks Act of 2018 or the VA MISSION Act 2018 (Pub. L. 115-182). The VA MISSION Act of 2018 expanded the PCAFC to Family Caregivers of eligible Veterans of all eras in a phased approach, established new benefits for Primary Family Caregivers of eligible Veterans, and made other changes affecting program eligibility and VA's evaluation of PCAFC applications.

Since program inception, Veterans and caregivers who disagree with a PCAFC decision were afforded the right to appeal through the Veterans Health Administration (VHA) Clinical Appeals Process. A 2021 Court ruling in the case of Jeremy Beaudette & Maya Beaudette v. Denis McDonough, Secretary of Veterans Affairs changed the appeal and review options available to individuals who have received a PCAFC decision and disagree with that decision. In that case, the U.S. Court of Appeals for Veterans Claims ruled in favor of petitioners seeking review by the Board of Veterans' Appeals (BVA or Board) of decisions under the PCAFC. As a result of the Court's ruling, BVA review is now available to individuals who have received a decision under the PCAFC since the program began in May 2011. Consequently, VA expanded options available to Veterans and caregivers who seek review of or to appeal a PCAFC decision.

The options include a separate appeals process (legacy) that must be used to appeal to the Board regarding PCAFC decisions issued before February 19, 2019. The legacy process is implemented through use of VA Form 10-306, which allows Veterans and caregivers to request information about past PCAFC decisions to determine whether they wish to pursue an appeal to the Board or request review. VA projects the submission of a lower number of 10-306 forms going forward because the annual number of requests following the court decision has been decreasing over time. CSP is discontinuing VA Form 10-307, which previously was included in this collection, as the form is no longer necessary and will become obsolete. There is a commensurate decrease in the burden hours for this collection due to the discontinuance and removal of VA Form 10-307 and the anticipated decrease in the number of 10-306 forms that will be received annually by VA.

VA received two public comments on the 60-day notice published in the Federal Register. The comments did not directly address the information collected in VA Form 10-306 for inquiries related to past PCAFC decisions. VA provided responses to these comments but will not make any changes to the information collection as a result of the comments.

An agency may not conduct or sponsor, and a person is not required to respond to a collection of information unless it displays a currently valid OMB control number. The Federal Register Notice with a 60-day comment period soliciting comments on this collection of information was published at 90 FR 22163, May 23, 2025.

Affected Public: Individuals or Households.

Estimated Annual Burden: 12,500 hours.

Estimated Average Burden per Respondent: 15 minutes.

Frequency of Response: Once annually.

Estimated Number of Respondents: 50,000.

Authority: 44 U.S.C. 3501 et seq.

Dorothy Glasgow,
Acting, VA PRA Clearance Officer, Office of Enterprise and Integration, Data Governance Analytics, Department of Veterans Affairs.

[FR Doc. 2025-14099 Filed 7-24-25; 8:45 am]

BILLING CODE 8320-01-P